INTERNATIONAL BOUNDARY AND WATER COMMISSION, UNITED STATES AND MEXICO

United States Section; Notice of Availability of the Final Environmental Impact Statement, Flood Control Improvements and Partial Levee Relocation, Presidio Flood Control Project, Presidio, TX

AGENCY: United States Section, International Boundary and Water Commission (USIBWC).

ACTION: Notice of Availability of Final Environmental Impact Statement.

SUMMARY: Pursuant to section 102(2)(c) of the National Environmental Policy Act (NEPA) of 1969, as amended, the United States Section, International Boundary and Water Commission (USIBWC) has prepared a Final Environmental Impact Statement (Final EIS) for flood control improvements to the Presidio Flood Control Project, Presidio, Texas (Presidio FCP). The EIS analyzed potential impacts of the No Action Alternative and six action alternatives under consideration. Site-specific information was used to evaluate environmental consequences that may result from implementing improvements in the upper, middle and lower reaches of the Presidio FCP. The following environmental resources were assessed in the Final EIS: Biological resources, cultural resources, water resources, land use, socioeconomic resources and transportation, environmental health issues (air quality, noise, public health, and environmental hazards), and cumulative impacts.

DATES: The Draft EIS was available for a 45-day review period, November 20, 2009 to January 12, 2010. Written comments were incorporated into the Final EIS. The USIBWC will announce its decision regarding future actions within the Presidio FCP in a Record of Decision to be published in the Federal Register no sooner than 30 days after the Environmental Protection Agency publishes a Notice of Availability for the Final Environmental Impact Statement, Flood Control Improvements and Partial Levee Relocation, USIBWC Presidio Flood Control Project, Presidio, Texas. A copy of the Final EIS will be available for review at the City of Presidio Library, 2440 O'Reilly Street, Presidio, Texas 79845, and will also be posted at the USIBWC Web site at http://www.ibwc.gov.

FOR FURTHER INFORMATION CONTACT: Mr. Daniel Borunda, Acting Division Chief, Environmental Management Division, USIBWC, 4171 North Mesa Street, C-100, El Paso, Texas 79902 or e-mail: danielborunda@ibwc.gov.

SUPPLEMENTARY INFORMATION: The Final EIS analyzed potential effects of the No Action Alternative and six action alternatives for flood control improvement alternatives for the Presidio FCP. The following six action alternatives were taken into consideration: (1) Retaining the current levee alignment, repairing structural levee damages and raising some levee segments as required to ensure full protection from a 25-year flood event; (2) 100-year flood protection of the City of Presidio and agricultural lands along the Presidio FCP by raising the levee system along its entire length and current alignment; (3) raising the entire levee system for 100-year flood protection, retaining current levee alignment in the upper and middle reaches of the Presidio FCP but partially relocating approximately 3.4 miles of the levee in the lower reach; (4) 100-year flood protection of the City of Presidio by raising the levee system in the upper and middle reaches of the Presidio FCP, in conjunction with a new 1.3-mile spur levee starting at mile 9.2 to connect the raised levee section to elevated terrain south of the City of Presidio; a 25-year flood protection would be retained in the lower reach along agricultural lands; (5) 100-year flood protection of the City of Presidio by raising in place the levee system along the upper and middle reaches of the Presidio FCP, constructing a new 1.4-mile spur levee at mile 8.5, and retaining the 25-year flood protection in the lower reach; and (6) raising the levee along the upstream sections of the levee system to provide 100-year flood protection to the City of Presidio and retaining the 25-year flood protection of agricultural lands in the lower reach, as in the two previous alternatives, and constructing a new 2.9-mile long spur levee in the middle reach, starting at levee mile 7.3, along a railroad track.

Preferred Alternative: The USIBWC has identified Alternative 2, raise the levee in-place to provide 25-year flood protection to the City of Presidio and the adjacent agricultural areas as the preferred alternative for implementation. This has also been identified as the environmentally preferred alternative.

Dated: February 11, 2010.
Eric Meza,
Legal Adviser.

[FR Doc. 2010-3127 Filed 2-18-10; 8:45 am]

BILLING CODE 7010-01-P